DEPARTMENT OF AGRICULTURE

Forest Service

Proposed Recreation Fee Site

AGENCY: Forest Service, Agriculture (USDA).

ACTION: Notice.

SUMMARY: The Prescott National Forest is proposing to establish a recreation fee site. Proposed recreation fees collected at the proposed recreation fee site would be used for operation, maintenance, and improvement of the site. An analysis of nearby recreation fee sites with similar amenities shows that the proposed recreation fees are reasonable and typical of similar recreation fee sites in the area.

DATES: If approved, the proposed recreation fees would be established no earlier than six months following the publication of this notice in the Federal Register.

ADDRESSES: Prescott National Forest, Attention: Julie Rowe, Recreation Program Manager, 735 N Hwy. 89, Chino Valley, AZ 86323.

FOR FURTHER INFORMATION CONTACT: Julie Rowe, Recreation Program Manager, (928) 856-2687, julie.rowe@usda.gov.

SUPPLEMENTARY INFORMATION: The Federal Lands Recreation Enhancement Act (16 U.S.C. 6803(b)) requires the Forest Service to publish in the Federal Register a six-month advance notice before establishment of proposed recreation fee sites and proposed special recreation permits. In accordance with Forest Service Handbook 2309.13, Chapter 30, the Forest Service will publish the proposed recreation fee sites and proposed recreation fees in local newspapers and other local publications for public comment. Most of the proposed recreation fees would be spent where they are collected to enhance the visitor experience at the proposed recreation fee site.

A proposed expanded amenity recreation fee of $18 per night would be charged for North Mingus Campground. A proposed expanded amenity recreation fee of $36 per night would be charged for double campsites at North Mingus Campground.

Fee revenue would be used to enhance recreation opportunities, improve customer service, and address maintenance needs.

Once public involvement is complete, the proposed recreation fee sites, proposed special recreation permit, and proposal recreation fees will be reviewed by a Recreation Resource Advisory Committee prior to a final decision and implementation. Reservations for campgrounds and cabins can be made online at www.recreation.gov or by calling (877) 444-6777. Reservations cost $8.00 per reservation.

Lisa Northrop,
Associate Deputy Chief, National Forest System.

[FR Doc. 2025-17415 Filed 9-9-25; 8:45 am]

BILLING CODE 3411-15-P